DEPARTMENT OF TRANSPORTATION

Federal Aviation Administration

14 CFR Part 39

[Docket No. 2000-NE-17-AD; Amendment 39-11842; AD 2000-15-10]

RIN 2120-AA64

Airworthiness Directives; McCauley Propeller Model 4HFR34C653/L106FA-0

AGENCY: Federal Aviation Administration, DOT.

ACTION: Final rule; request for comments.

SUMMARY: This amendment adopts a new airworthiness directive (AD) that is applicable to McCauley Propeller Systems 4HFR34C653/L106FA-0 model propellers that are installed on Jetstream Series 3200 airplanes. This action is also applicable to 4HFR34C653/L106FA-0 model propellers that are installed on Ayres S2R-G5 and S2R-G10 airplanes if the propeller was previously installed on Jetstream Series 3200 airplanes or if installation history of the propeller is unknown. This action requires one-time and repetitive eddy current inspections of the camber side of the blade surface. This amendment is prompted by a report of a crack on the camber side of the blade surface. The crack was found during a dye penetrant inspection as part of a normal overhaul process. The actions specified in this AD are intended to detect cracks that could cause failure of the propeller blade, which can result in loss of control of the airplane.

DATES: Effective August 23, 2000. The incorporation by reference of certain publications listed in the rule is approved by the Director of the Federal Register as of August 23, 2000.

Comments for inclusion in the Rules Docket must be received on or before October 10, 2000.

ADDRESSES: Submit comments in triplicate to the Federal Aviation Administration (FAA), New England Region, Office of the Regional Counsel, Attention: Rules Docket No. 2000-NE-17-AD, 12 New England Executive Park, Burlington, MA 01803-5299. Comments may also be sent via the Internet using the following address: “9-ane-adcomment@faa.gov”. Comments sent via the Internet must contain the docket number in the subject line.

The service information referenced in this AD may be obtained from McCauley Propeller Systems, A Textron Company, 3535 McCauley Drive, Vandella, Ohio 45377. This information may be examined at the FAA, New England Region, Office of the Regional Counsel, 12 New England Executive Park, Burlington, MA; or at the Office of the Federal Register, 800 North Capitol Street, NW, suite 700, Washington, DC.

FOR FURTHER INFORMATION CONTACT: Timothy Smyth, Aerospace Engineer, Chicago Aircraft Certification Office, FAA, Small Airplane Directorate, 2300 E. Devon Ave., Des Plaines, IL 60018; telephone 847-294-7132, fax 847-294-7834.

SUPPLEMENTARY INFORMATION: In December, 1999, an FAA approved repair station found a crack in the camber side of a propeller blade during a dye penetrant inspection. The dye penetrant inspection was being done as part of an overhaul. This condition, if not corrected, could result in failure of the propeller blade, which can result in loss of control of the airplane.

Manufacturer's Service Documentation

The FAA has reviewed and approved the technical contents of McCauley Propeller Systems Alert Service Bulletin (ASB) 234, dated May 1, 2000. That ASB describes procedures for eddy current and dye penetrant inspections of the camber side of the propeller blade, and procedures for the evaluation of suspect indications.

Actions Required by This AD

Since an unsafe condition has been identified that is likely to exist or develop on other McCauley Propeller Systems 4HFR34C653/L106FA-0 model propellers of the same type design, this AD is being issued to detect cracks that could cause failure of the propeller blade, which can result in loss of control of the airplane. This AD requires one-time and repetitive eddy current inspections or dye penetrant inspections of the camber side of any propeller blade that is installed on, or has at any time been installed on, Jetstream series 3200 airplanes. The inspection requirements and the qualification requirements for the test technicians are based on the criticality of the potential failure condition. These same actions are required to be done on propellers that are installed on Ayres S2R-G5 and S2R-G10 airplanes, if the propeller was previously installed on Jetstream Series 3200 airplanes, or if the installation history of the propeller is unknown. The inspections must be done within 200 flight hours after the effective date of this AD or within 30 days after the effective date of this AD, whichever occurs first, and, thereafter, every 600 flight hours after the last inspection. The inspections must be accomplished in accordance with the ASB described previously.

Immediate Adoption of This AD

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this notice must submit a self-addressed, stamped postcard on which the following statement is made: “Comments to Docket Number 2000-NE-17-AD.” The postcard will be date stamped and returned to the commenter.

Regulatory Impact

This proposed rule does not have federalism implications, as defined in Executive Order 13132, because it would not have a substantial direct effect on the States, on the relationship between the national government and the States, or on the distribution of power and responsibilities among the various levels of government. Accordingly, the FAA has not consulted with state authorities prior to publication of this proposed rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

39.13 [Amended]

2. Section 39.13 is amended by adding the following new airworthiness directive:

2000-15-10 McCauley Propeller Systems: Amendment 39-11842: Docket 2000-NE-17-AD.

Applicability: McCauley Propeller Systems 4HFR34C653/L106FA-0 model propellers that are installed on Jetstream series 3200 airplanes; and 4HFR34C653/L106FA-0 model propellers installed on Ayres S2R-G5 and S2R-G10 airplanes, if the propeller was previously installed on Jetstream Series 3200 airplanes, or if the installation history of the propeller is unknown.

Note 1: This airworthiness directive (AD) applies to each propeller identified in the preceding applicability provision, regardless of whether it has been modified, altered, or repaired in the area subject to the requirements of this AD. For propellers that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Compliance with the requirements of this AD is required within 200 flight hours after the effective date of this AD or within 30 days after the effective date of this AD, whichever occurs earlier, and, thereafter, every 600 flight hours after the last inspection.

To prevent failure of the propeller blade, which can result in loss of control of the airplane, perform EITHER of the following inspections:

Eddy Current Inspection

(a) Do initial and repetitive eddy current inspections of the camber side of the propeller blade in accordance with McCauley Propeller Systems Alert Service Bulletin (ASB) 234 as follows:

(1) Inspect in accordance with Section I, Eddy Current Inspection, paragraph 1.a. through Section I, Part I, paragraph l.

(2) Evaluate suspect indications in accordance with Section I, Part II, Evaluation of Suspect Indications, paragraph a. through paragraph g.

Dye Penetrant Inspection

(b) Or, remove the propeller, and perform initial and repetitive dye penetrant inspections of the camber side of the propeller blade in accordance with ASB 234, Section II, Dye Penetrant Inspection, paragraph a. through paragraph f.

Personnel Requirements

(c) Individuals performing inspections defined in paragraph (a) and paragraph (b) of this AD must have a specialized rating in the applicable inspection method. Personnel must be qualified and certified to the minimum recommended requirements of “Level II” as described in Aerospace Industries Standard —NAS 410 or the equivalent national or international standard.

Alternative Methods of Compliance

(d) An alternative method of compliance or adjustment of the compliance time that provides an acceptable level of safety may be used if approved by the Manager, Chicago Aircraft Certification Office (CHIACO). Operators shall submit their requests through an appropriate FAA Principal Maintenance Inspector, who may add comments and then send it to the Manager, CHIACO.

Note 2: Information concerning the existence of approved alternative methods of compliance with this airworthiness directive, if any, may be obtained from the CHIACO.

Special Flight Permits

(e) Special flight permits may be issued in accordance with sections 21.197 and 21.199 of the Federal Aviation Regulations (14 CFR 21.197 and 21.199) to operate the aircraft to a location where the requirements of this AD can be accomplished.

Incorporation by Reference

(f) The inspection must be done in accordance with McCauley Alert Service Bulletin 234, dated May 1, 2000. This incorporation by reference was approved by the Director of the Federal Register in accordance with 5 U.S.C. 552(a) and 1 CFR part 51. Copies may be obtained from McCauley Propeller Systems, A Textron Company, 3535 McCauley Drive, Vandella, Ohio 45377. Copies may be inspected at the FAA, New England Region, Office of the Regional Counsel, 12 New England Executive Park, Burlington, MA; or at the Office of the Federal Register, 800 North Capitol Street, NW., suite 700, Washington, DC.

Effective Date of This AD

(g) This amendment becomes effective on August 23, 2000.

Issued in Burlington, Massachusetts, on July 28, 2000.
David A. Downey,
Assistant Manager, Engine and Propeller Directorate, Aircraft Certification Service.

[FR Doc. 00-19665 Filed 8-7-00; 8:45 am]

BILLING CODE 4910-13-P